DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Lois Bartsch, Ph.D., University of Nebraska Medical Center: Based on the report of an investigation conducted by the University of Nebraska Medical Center (UNMC) and additional analysis conducted by the Office of Research Integrity (ORI) during its oversight review, the U.S. Public Health Service (PHS) found that Lois Bartsch, Ph.D., former postdoctoral research trainee, Department of Genetics, Cell Biology, and Anatomy, UNMC, engaged in scientific misconduct in research supported by National Cancer Institute (NCI), National Institutes of Health (NIH), grants P30 CA36727 and R01 CA77876 and National Center for Research Resources (NCRR), NIH, grant P20 RR016469.

Specifically, PHS found that Dr. Bartsch:

• Falsified DNA sequence files by deleting a nucleotide and changing nucleotide designations and reported the altered file as the ACI rat p16Cdkn2a sequence with a CpG dinucleotide polymorphism in the upstream region to GenBank, in grant application CA118151, and in the poster presented to Cold Spring Harbor Laboratory (CSHL);

• Fabricated the claim in grant application CA118151 that GenBank entries for the human p16Cdkn2a gene had a CpG polymorphism near the transcription start site;

• Falsified the differential methylation of CpG dinucleotides near the transcription start site of p16Cdkn2a DNA and reported that tumor tissue was more methylated than normal tissue in ACI rats treated with estrogen and that the ACI allele was more methylated than the BN allele in tumor tissue from (BN × ACI)F1 animals treated with estrogen in grant application CA118151.

Dr. Bartsch has entered into a Voluntary Exclusion Agreement (Agreement) in which she neither admits nor denies ORI's finding of scientific misconduct; the settlement is not an admission of liability on the part of the respondent. In accordance with the terms of the Agreement, she has voluntarily agreed, beginning on April 15, 2008:

(1) To exclude herself from any contracting or subcontracting with any agency of the United States Government and from eligibility or involvement in nonprocurement programs of the United States Government referred to as “covered transactions” pursuant to HHS' Implementation (2 CFR Part 376 et seq.) of OMB Guidelines to Agencies on Government-wide Debarment and Suspension (2 CFR Part 180) for a period of two (2) years; and

(2) To exclude herself permanently from serving in any advisory capacity to PHS, including but not limited to service on any PHS advisory committee, board, and/or peer review committee, or as a consultant or contractor to PHS for a period of three (3) years.

FOR FURTHER INFORMATION CONTACT: Director, Division of Investigative Oversight, Office of Research Integrity, 1101 Wootton Parkway, Suite 750, Rockville, MD 20852 (240) 453-8800.

Chris B. Pascal,
Director, Office of Research Integrity.

[FR Doc. E8-9858 Filed 5-5-08; 8:45 am]

BILLING CODE 4150-31-P